DEPARTMENT OF AGRICULTURE

Forest Service

McNally Fire Roadless Restoration Project

AGENCY: USDA, Forest Service.

ACTION: Cancellation of Notice of Intent to prepare an Environmental Impact Statement.

SUMMARY: The Department of Agriculture, Forest Service is canceling the Notice of Intent (NOI) to prepare an environmental impact statement (EIS) that was published in the Federal Register on Friday, March 28, 2003, pages 15147 to 15148, to address the impacts of the McNally fire within the Rincon, Chico, and Cannell Roadless areas. The purpose of this EIS was to address and propose restoration of the damaged ecosystem due to the McNally fire within these roadless areas. The Sequoia National Forest proposes at this time that Roadless characteristics, while degraded, will be left to recover naturally.

FOR FURTHER INFORMATION CONTACT: Tom Simonson, Ecosystem Manager, Sequoia National Forest, 900 West Grand Avenue, Porterville, CA 93257. The phone number is (559) 784-1500.

Dated: May 28, 2004.
Arthur L. Gaffrey,
Forest Supervisor, Sequoia National Forest.

[FR Doc. 04-12779 Filed 6-4-04; 8:45 am]

BILLING CODE 3410-11-M